DEPARTMENT OF COMMERCE

National Oceanic and Atmospheric Administration

[I.D. 011106B]

North Pacific Fishery Management Council; Public Meeting

AGENCY: National Marine Fisheries Service (NMFS), National Oceanic and Atmospheric Administration (NOAA), Commerce.

ACTION: Notice of meetings of the North Pacific Fishery Management Council Observer Advisory Committee.

SUMMARY: The North Pacific Fishery Management Council (Council) Observer Advisory Committee will meet at the Alaska Fisheries Science Center.

DATES: The meeting will be held on January 30-31, 2006, from 8:30 a.m. to 5 p.m.

ADDRESSES: The meeting will be held at the Alaska Fishery Science Center, 7600 Sand Point Way NE., Bldg 4, Room 1055, Seattle, WA 98115.

Council address: North Pacific Fishery Management Council, 605 W. 4th Ave., Suite 306, Anchorage, AK 99501-2252.

FOR FURTHER INFORMATION CONTACT: Nicole Kimball, Council staff, telephone: (907) 271-2809.

SUPPLEMENTARY INFORMATION: The purpose of the meeting is to review the draft environmental analysis/regulatory impact review/initial regulatory flexibility analysis to restructure the North Pacific Groundfish Observer Program.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Gail Bendixen at 907-271-2809 at least 7 working days prior to the meeting date.

Dated: January 11, 2006.
Emily Menashes,
Acting Director, Office of Sustainable Fisheries, National Marine Fisheries Service.

[FR Doc. E6-417 Filed 1-13-06; 8:45 am]

BILLING CODE 3510-22-S